DEPARTMENT OF ENERGY

Federal Energy Regulatory Commission

Combined Notice of Filings #1

Take notice that the Commission received the following electric corporate filings:

Docket Numbers: EC16-81-000.

Applicants: Enterprise Solar, LLC, Escalante Solar I, LLC, Escalante Solar II, LLC, Escalante Solar III, LLC, Granite Mountain Solar East, LLC, Granite Mountain Solar West, LLC, Iron Springs Solar, LLC.

Description: Application for Authorization Under Section 203 of the Federal Power Act and Request for Waivers, Expedited Action, and Shortened Comment Period of Enterprise Solar, LLC, et. al.

Filed Date: 2/25/16.

Accession Number: 20160225-5199.

Comments Due: 5 p.m. ET 3/17/16.

Take notice that the Commission received the following exempt wholesale generator filings:

Docket Numbers: EG16-60-000.

Applicants: East Ridge Transmission, LLC.

Description: Notice of Self-Certification of Exempt Wholesale Generator Status of The East Ridge Transmission, LLC.

Filed Date: 2/26/16.

Accession Number: 20160226-5280.

Comments Due: 5 p.m. ET 3/18/16.

Take notice that the Commission received the following electric rate filings:

Docket Numbers: ER16-453-001.

Applicants: Northeast Transmission Development, LLC, PJM Interconnection, L.L.C.

Description: Tariff Amendment: NTD submits Response to Deficiency Letter issued Jan. 29, 2016 in ER16-453 to be effective 2/1/2016.

Filed Date: 2/26/16.

Accession Number: 20160226-5205.

Comments Due: 5 p.m. ET 3/18/16.

Docket Numbers: ER16-1008-000.

Applicants: PJM Interconnection, L.L.C.

Description: § 205(d) Rate Filing: Second Revised ISA No. 3577, Queue No. Y1-086 per Assignment to be effective 1/26/2016.

Filed Date: 2/25/16.

Accession Number: 20160225-5192.

Comments Due: 5 p.m. ET 3/17/16.

Docket Numbers: ER16-1009-000.

Applicants: PJM Interconnection, L.L.C.

Description: § 205(d) Rate Filing: Amendment to WMPA SA No. 3203, Queue No. W3-079 to be effective 10/27/2014.

Filed Date: 2/26/16.

Accession Number: 20160226-5049.

Comments Due: 5 p.m. ET 3/18/16.

Docket Numbers: ER16-1010-000.

Applicants: Southwest Power Pool, Inc.

Description: § 205(d) Rate Filing: 2181 MKEC to Prairie Wind Transmission Novation Cancellation to be effective 2/16/2016.

Filed Date: 2/26/16.

Accession Number: 20160226-5082.

Comments Due: 5 p.m. ET 3/18/16.

Docket Numbers: ER16-1011-000.

Applicants: Southwest Power Pool, Inc.

Description: § 205(d) Rate Filing: 2182 Westar and MKEC to Prairie Wind Transmission Novation Cancellation to be effective 2/16/2016.

Filed Date: 2/26/16.

Accession Number: 20160226-5084.

Comments Due: 5 p.m. ET 3/18/16.

Docket Numbers: ER16-1012-000.

Applicants: Southern California Edison Company.

Description: Tariff Cancellation: Notices of Cancellation LGIA and Distribution Service Agmt Sun Valley Project to be effective 4/19/2016.

Filed Date: 2/26/16.

Accession Number: 20160226-5178.

Comments Due: 5 p.m. ET 3/18/16.

Docket Numbers: ER16-1013-000.

Applicants: Interstate Power and Light Company, ITC Midwest LLC.

Description: § 205(d) Rate Filing: Amended IPL Operating and Transmission Agreement Exhibits to be effective 4/26/2016.

Filed Date: 2/26/16.

Accession Number: 20160226-5207.

Comments Due: 5 p.m. ET 3/18/16.

Docket Numbers: ER16-1014-000.

Applicants: The Dayton Power and Light Company.

Description: § 205(d) Rate Filing: FERC Rate Schedule No. 2 to be effective 5/1/2016.

Filed Date: 2/26/16.

Accession Number: 20160226-5239.

Comments Due: 5 p.m. ET 3/18/16.

Docket Numbers: ER16-1015-000.

Applicants: Southern California Edison Company.

Description: § 205(d) Rate Filing: 2016 Revised Added Facilities Rate for Rate Schedules to be effective 1/1/2016.

Filed Date: 2/26/16.

Accession Number: 20160226-5275.

Comments Due: 5 p.m. ET 3/18/16.

Docket Numbers: ER16-1016-000.

Applicants: Southern California Edison Company.

Description: Tariff Cancellation: Notice of Cancellation Tie-Line Facilities Agreement Sun Valley Project to be effective 4/19/2016.

Filed Date: 2/26/16.

Accession Number: 20160226-5283.

Comments Due: 5 p.m. ET 3/18/16.

Docket Numbers: ER16-1017-000.

Applicants: PJM Interconnection, L.L.C.

Description: § 205(d) Rate Filing: First Revised Interconnection Service Agreement No. 3800, Queue No. AA1-040 to be effective 1/27/2016.

Filed Date: 2/26/16.

Accession Number: 20160226-5330.

Comments Due: 5 p.m. ET 3/18/16.

Take notice that the Commission received the following electric securities filings:

Docket Numbers: ES16-23-000.

Applicants: Southern Indiana Gas and Electric Company, Inc.

Description: Application of Southern Indiana Gas and Electric Company, Inc. for Authority to Issue Short-Term Debt.

Filed Date: 2/26/16.

Accession Number: 20160226-5081.

Comments Due: 5 p.m. ET 3/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2016.
Nathaniel J. Davis, Sr.,
Deputy Secretary.

[FR Doc. 2016-04651 Filed 3-2-16; 8:45 am]

BILLING CODE 6717-01-P